NATIONAL SCIENCE FOUNDATION

National Science Board; Sunshine Act Meetings; Notice

The National Science Board (NSB) Committee on Strategy and Budget, pursuant to NSF regulations (45 CFR part 614), the National Science Foundation Act, as amended (42 U.S.C. 1862n-5), and the Government in the Sunshine Act (5 U.S.C. 552b), hereby gives notice in regard to the scheduling of meeting for the transaction of NSB business and other matters specified, as follows:

DATE AND TIME: Tuesday, September 6, 2011 at 12-12:30 p.m., EDT.

SUBJECT MATTER: Chairman's Remarks, Approval of Minutes, NSF FY 2013 Budget, and Other Committee Business.

STATUS: Closed.

This meeting will be held by teleconference originating at the National Science Board Office, National Science Foundation, 4201Wilson Blvd., Arlington, VA 22230.

Please refer to the National Science Board Web site (http://www.nsf.gov/nsb/notices/) for information or schedule updates, or contact: Blane Dahl, National Science Foundation, 4201Wilson Blvd., Arlington, VA 22230. Telephone: (703) 292-7000.

Ann Ferrante,
Writer-Editor.

[FR Doc. 2011-22839 Filed 9-1-11; 4:15 pm]

BILLING CODE 7555-01-P